DEPARTMENT OF ENERGY

Federal Energy Regulatory Commission

Combined Notice of Filings #1

Take notice that the Commission received the following electric rate filings:

Docket Numbers: ER15-2594-007; ER17-953-003.

Applicants: GridLiance High Plains LLC.

Description: Supplement to April 5, 2019 GridLiance High Plains LLC tariff filing.

Filed Date: 1/19/21.

Accession Number: 20210119-5256.

Comments Due: 5 p.m. ET 2/9/21.

Docket Numbers: ER17-580-002.

Applicants: Axium Modesto Solar, LLC.

Description: Notice of Change in Status of Axium Modesto Solar, LLC.

Filed Date: 1/26/21.

Accession Number: 20210126-5163.

Comments Due: 5 p.m. ET 2/16/21.

Docket Numbers: ER17-1370-004; ER16-581-005; ER16-2271-004; ER16-582-005; ER11-4535-003.

Applicants: ENGIE Energy Marketing NA, Inc., ENGIE Portfolio Management, LLC, ENGIE Resources LLC, ENGIE Retail, LLC, Plymouth Rock Energy, LLC.

Description: Notice of Change in Status of ENGIE MBR Sellers.

Filed Date: 1/26/21.

Accession Number: 20210126-5160.

Comments Due: 5 p.m. ET 2/16/21.

Docket Numbers: ER20-108-003.

Applicants: Southwest Power Pool, Inc.

Description: Compliance filing: Substitute 3127R1 MDU NITSA NOA and Substitute 3127R2 MDU NITSA NOA to be effective 12/15/2019.

Filed Date: 1/27/21.

Accession Number: 20210127-5081.

Comments Due: 5 p.m. ET 2/17/21.

Docket Numbers: ER20-1987-003; ER20-2070-002; ER20-2648-002; ER20-2690-002.

Applicants: Cerro Gordo Wind, LLC, Jordan Creek Wind Farm LLC, Northern Divide Wind, LLC, Wheatridge Wind II, LLC.

Description: Notice of Non-Material Change in Status of Cerro Gordo Wind, LLC, et al.

Filed Date: 1/27/21.

Accession Number: 20210127-5150.

Comments Due: 5 p.m. ET 2/17/21.

Docket Numbers: ER20-2054-001.

Applicants: ISO New England Inc., Central Maine Power Company, The United Illuminating Company, Versant Power, The Connecticut Light and Power Company, Public Service Company of New Hampshire, NSTAR Electric Company, Green Mountain Power Corporation, New England Power Company, Unitil Energy Systems, Inc., Fitchburg Gas and Electric Light Company, Vermont Electric Cooperative, Inc., Vermont Transco LLC, New Hampshire Transmission, LLC.

Description: Compliance filing: New England Transmission Owners; Docket No.ER20-2054—to be effective 6/15/2021.

Filed Date: 1/27/21.

Accession Number: 20210127-5024.

Comments Due: 5 p.m. ET 2/17/21.

Docket Numbers: ER21-513-002.

Applicants: Pacific Gas and Electric Company.

Description: Tariff Amendment: Errata to Western Biannual Filing (WDT SA 17) to be effective 2/1/2021.

Filed Date: 1/27/21.

Accession Number: 20210127-5114.

Comments Due: 5 p.m. ET 2/17/21.

Docket Numbers: ER21-630-000.

Applicants: 325MK 8ME LLC.

Description: Amendment to December 11, 2020 325MK 8ME LLC tariff filing.

Filed Date: 1/26/21.

Accession Number: 20210126-5142.

Comments Due: 5 p.m. ET 2/16/21.

Docket Numbers: ER21-945-000.

Applicants: Southwestern Electric Power Company.

Description: § 205(d) Rate Filing: ETEC and NTEC PSA to be effective 3/28/2021.

Filed Date: 1/26/21.

Accession Number: 20210126-5135.

Comments Due: 5 p.m. ET 2/16/21.

Docket Numbers: ER21-946-000.

Applicants: Southwestern Electric Power Company.

Description: § 205(d) Rate Filing: Hope PSA to be effective 3/28/2021.

Filed Date: 1/26/21.

Accession Number: 20210126-5138.

Comments Due: 5 p.m. ET 2/16/21.

Docket Numbers: ER21-947-000.

Applicants: Southwestern Electric Power Company.

Description: § 205(d) Rate Filing: Amended and Restated NTEC PSA to be effective 3/28/2021.

Filed Date: 1/26/21.

Accession Number: 20210126-5143.

Comments Due: 5 p.m. ET 2/16/21.

Docket Numbers: ER21-948-000.

Applicants: Southwestern Electric Power Company.

Description: § 205(d) Rate Filing: Revised and Restated Prescott PSA to be effective 3/28/2021.

Filed Date: 1/26/21.

Accession Number: 20210126-5148.

Comments Due: 5 p.m. ET 2/16/21.

Docket Numbers: ER21-949-000.

Applicants: Southwest Power Pool, Inc.

Description: § 205(d) Rate Filing: 2829R5 Midwest Energy/Evergy Kansas Central Meter Agent Agr to be effective 1/1/2021.

Filed Date: 1/27/21.

Accession Number: 20210127-5038.

Comments Due: 5 p.m. ET 2/17/21.

Docket Numbers: ER21-950-000.

Applicants: Pacific Gas and Electric Company.

Description: § 205(d) Rate Filing: Q4 2020 Quarterly Filing of City and County of San Francisco's WDT SA (SA 275) to be effective 12/31/2020.

Filed Date: 1/27/21.

Accession Number: 20210127-5073.

Comments Due: 5 p.m. ET 2/17/21.

Docket Numbers: ER21-951-000.

Applicants: Wrighter Energy LLC.

Description: Tariff Cancellation: Request to Cancel MBR Tariff to be effective 1/28/2021.

Filed Date: 1/27/21.

Accession Number: 20210127-5071.

Comments Due: 5 p.m. ET 2/17/21.

Docket Numbers: ER21-952-000.

Applicants: Mid-Atlantic Interstate Transmission, LLC, PJM Interconnection, L.L.C.

Description: § 205(d) Rate Filing: MAIT submits Eight ECSAs, SA Nos. 5720, 5788, 5789-5781, 5911 and 5912 to be effective 3/29/2021.

Filed Date: 1/27/21.

Accession Number: 20210127-5110.

Comments Due: 5 p.m. ET 2/17/21.

Docket Numbers: ER21-953-000.

Applicants: Entergy Louisiana, LLC.

Description: § 205(d) Rate Filing: Entergy OpCos Reactive Power Update to be effective 2/1/2021.

Filed Date: 1/27/21.

Accession Number: 20210127-5130.

Comments Due: 5 p.m. ET 2/17/21.

Docket Numbers: ER21-954-000.

Applicants: Central Hudson Gas & Electric Corporation.

Description: § 205(d) Rate Filing: Revision to FERC Rate Schedule 202 to be effective 1/20/2021.

Filed Date: 1/27/21.

Accession Number: 20210127-5133.

Comments Due: 5 p.m. ET 2/17/21.

Docket Numbers: ER21-955-000.

Applicants: California Independent System Operator Corporation.

Description: § 205(d) Rate Filing: 2021-01-27 EIM Base Schedule and Real Time Settlement to be effective 4/1/2021.

Filed Date: 1/27/21.

Accession Number: 20210127-5134.

Comments Due: 5 p.m. ET 2/17/21.

Docket Numbers: ER21-956-000.

Applicants: Stonepeak Kestrel Energy Marketing LLC.

Description: § 205(d) Rate Filing: Cost Recovery filing to be effective 3/29/2021.

Filed Date: 1/27/21.

Accession Number: 20210127-5135.

Comments Due: 5 p.m. ET 2/17/21.

Docket Numbers: ER21-957-000.

Applicants: Bucksport Generation LLC.

Description: § 205(d) Rate Filing: Cost Recovery filing to be effective 3/29/2021.

Filed Date: 1/27/21.

Accession Number: 20210127-5140.

Comments Due: 5 p.m. ET 2/17/21.

Docket Numbers: ER21-958-000.

Applicants: Tri-State Generation and Transmission Association, Inc.

Description: § 205(d) Rate Filing: Amendment to Tri-State Rate Schedule No. 93 to be effective 1/28/2021.

Filed Date: 1/27/21.

Accession Number: 20210127-5149.

Comments Due: 5 p.m. ET 2/17/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 27, 2021.
Nathaniel J. Davis, Sr.,
Deputy Secretary.

[FR Doc. 2021-02149 Filed 2-1-21; 8:45 am]

BILLING CODE 6717-01-P